U.S. POSTAL SERVICE BOARD OF GOVERNORS

Sunshine Act Meeting

Date and Times: Thursday, November 4, 2004; 10 a.m. and 3 p.m.

Place: Washington, DC, at U.S. Postal Service Headquarters, 475 L'Enfant Plaza, SW., in the Benjamin Franklin Room.

Status: November 4-10 a.m. (Closed); 3 p.m. (Open).

Matters to Be Considered:

Thursday, November 4-10 a.m. (Closed)

1. Financial Update.

2. Proposed Filing with the Postal Rate Commission for Premium Forwarding Service.

3. Rate Case Planning.

4. Strategic Planning.

5. Personnel Matters and Compensation Issues.

Thursday, November 4—3 p.m. (Open)

1. Minutes of the Previous Meeting, September 13 and 14, 2004.

2. Remarks of the Postmaster General and CEO.

3. Quarterly Report on Service Performance.

4. Committee Reports.

Thursday, November 4—3 p.m. (Open) [continued]

5. Board of Governors Calendar Year 2005 Meeting Schedule.

6. Office of the Governors Fiscal Year 2005 Budget.

7. Capital Investment.

a. Intelligent Mail Data Acquisition System.

8. Tentative Agenda for the December 7, 2004, meeting in Washington, DC.

CONTACT PERSON FOR FURTHER INFORMATION: William T. Johnstone, Secretary of the Board, U.S. Postal Service, 475 L'Enfant Plaza, SW., Washington, DC 20250-1000. Telephone (202) 268-4800.

William T. Johnstone,
Secretary.

[FR Doc. 04-24080 Filed 10-22-04; 4:12 pm]

BILLING CODE 7710-12-M